ENVIRONMENTAL PROTECTION AGENCY

40 CFR Parts 9 and 721

[EPA-HQ-OPPT-2010-1075; FRL-9329-5]

RIN 2070-AB27

Significant New Use Rules on Certain Chemical Substances; Withdrawal of Two Chemical Substances

AGENCY: Environmental Protection Agency (EPA).

ACTION: Final rule.

SUMMARY: EPA is withdrawing two significant new use rules (SNURs) promulgated under section 5(a)(2) of the Toxic Substances Control Act (TSCA) for chemical substances which were the subject of premanufacture notices (PMNs), i.e., rutile, tin zinc, calcium-doped (PMN P-06-36; CAS No. 389623-01-2) and rutile, tin zinc, sodium-doped (PMN P-06-37; CAS No. 389623-07-8). These chemical substances are subject to TSCA section 5(e) consent orders issued by EPA. EPA received a notice of intent to submit adverse comments on the direct final rule. Therefore, the Agency is withdrawing these SNURs, as required under the expedited SNUR rulemaking process. EPA intends to publish in the near future proposed SNURs for these two chemical substances under separate notice and comment procedures.

DATES: This final rule is effective December 5, 2011.

FOR FURTHER INFORMATION CONTACT: For technical information contact: Kenneth Moss, Chemical Control Division (7405M), Office of Pollution Prevention and Toxics, Environmental Protection Agency, 1200 Pennsylvania Ave. NW., Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

A list of potentially affected entities is provided in the Federal Register issue of October 5, 2011 (76 FR 61566) (FRL-8880-2). If you have questions regarding the applicability of this action to a particular entity, consult the technical person listed under FOR FURTHER INFORMATION CONTACT.

II. What rules are being withdrawn?

In the Federal Register issue of October 5, 2011, EPA issued several direct final SNURs, including SNURs for the two chemical substances that are the subject of this withdrawal. These direct final rules were issued pursuant to the procedures in 40 CFR part 721, subpart D. In accordance with § 721.160(c)(3)(ii), EPA is withdrawing the rules issued for rutile, tin zinc, calcium-doped (PMN P-06-36; CAS No. 389623-01-2) and rutile, tin zinc, sodium-doped (PMN P-06-37; CAS No. 389623-07-8) because the Agency received a notice of intent to submit adverse comments. For further information regarding EPA's expedited process for issuing SNURs, interested parties are directed to 40 CFR part 721, subpart D, and the Federal Register issue of July 27, 1989 (54 FR 31314). The docket for the direct final SNURs for these two chemical substances that are being withdrawn was established at EPA-HQ-OPPT-2010-1075. That docket includes information considered by the Agency in developing these direct final rules and the notice of intent to submit adverse comments. EPA intends to publish in the near future proposed SNURs for these two chemical substances under separate notice and comment procedures.

III. How do I access the docket?

To access the electronic docket, please go to http://www.regulations.gov and follow the online instructions to access docket ID number EPA-HQ-OPPT-2010-1075. Additional information about the Docket Facility is provided under ADDRESSES in the Federal Register issue of October 5, 2011. If you have questions, consult the technical person listed under FOR FURTHER INFORMATION CONTACT.

IV. What statutory and Executive Order reviews apply to this action?

This final rule removes an existing regulatory requirement and does not contain any new or amended requirements. As such, the Agency has determined that this withdrawal will not have any adverse impacts, economic or otherwise. The statutory and executive order review requirements applicable to the direct final rule were discussed in the Federal Register issue of October 5, 2011. Those review requirements do not apply to this action because it is a withdrawal and does not contain any new or amended requirements.

V. Congressional Review Act

The Congressional Review Act, 5 U.S.C. 801 et seq., generally provides that before a rule may take effect, the agency promulgating the rule must submit a rule report to each House of the Congress and the Comptroller General of the United States. EPA will submit a report containing this rule and other required information to the U.S. Senate, the U.S. House of Representatives, and the Comptroller General of the United States prior to publication of the rule in the Federal Register. This rule is not a “major rule” as defined by 5 U.S.C. 804(2).

List of Subjects

40 CFR Part 9

Environmental protection, Reporting and recordkeeping requirements.

40 CFR Part 721

Environmental protection, Chemicals, Hazardous substances, Reporting and recordkeeping requirements.

Dated: November 29, 2011.
Wendy C. Hamnett,
Director, Office of Pollution Prevention and Toxics.

Therefore, 40 CFR parts 9 and 721 are amended as follows:

PART 9—[AMENDED]

1. The authority citation for part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345 (d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

§ 9.1 [Amended]

2. Remove from the table in § 9.1 under the undesignated center heading “Significant New Uses of Chemical Substances,” the entries for §§ 721.10230 and 721.10231.

PART 721—[AMENDED]

3. The authority citation for part 721 continues to read as follows:

Authority: 15 U.S.C. 2604, 2607, and 2625(c).

§ 721.10230 [Removed]

4. Remove § 721.10230.

§ 721.10231 [Removed]

5. Remove § 721.10231.

[FR Doc. 2011-31137 Filed 12-2-11; 8:45 am]

BILLING CODE 6560-50-P